DEPARTMENT OF COMMERCE

Census Bureau

Proposed Information Collection; Comment Request; Special Census Program

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before November 2, 2015.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Direct all requests for additional information, or copies of the information collection instrument(s), and instructions to Michael A. Hall, Bureau of the Census, 4600 Silver Hill Road, Field Division, Special Census Branch, Location 5H149, Washington, DC 20233 and/or call (301) 763-1429.

SUPPLEMENTARY INFORMATION:

I. Abstract

The Special Census Program is a reimbursable service offered and performed by the Census Bureau for the government of any state, county, city, or other political subdivision within a state. This includes the District of Columbia, the government of any possession or area over which the U.S. exercises jurisdiction, control, or sovereignty, and other governmental units that require current population data between decennial censuses.

Many states use Special Census population statistics to determine the distribution of funds to local jurisdictions. The local jurisdictions may also use the data to plan new schools, transportation systems, housing programs, or water treatment facilities.

The Census Bureau will use the following forms to conduct the various Special Census operations:

SC-1, Special Census Enumerator Questionnaire—This interview form will be used to collect special census data at regular housing units (HU), and eligible units in Transient Locations (TL) such as RV parks, marinas, campgrounds, hotels or motels.

SC-1(SUPP), Continuation Form for Enumerator Questionnaires—This interview form will be used to collect special census data at a regular HU or eligible units in a TL, when there are more than five members in a household.

SC-1 (Phone/WYC), Special Census Enumeration Questionnaire—This interview form will be used to collect special census data when a respondent calls the local special census office.

SC-2, Group Quarters Questionnaire—This interview form will be used to collect special census data at group quarters (GQ) such as hospitals, prisons, boarding and rooming houses, college dormitories, military facilities, and convents.

SC-3 (RI), Enumeration Reinterview Form—This is a quality assurance form used by enumerators to conduct an independent interview at a sample of HUs. Special Census office staff will compare the data collected on this form with the original interview to make sure the original enumerator followed procedures.

SC-116, Group Quarters Enumeration Control Sheet—This page will be used by Special Census enumerators to list residents/clients at GQs.

SC-117, TL Enumeration Record—This forms will be used by office staff to collect contact information and schedule interviews for TLs, to determine the type of TL, and to estimate the number of interviews to be conducted.

SC-351, Group Quarters Initial Contact Checklist—This checklist will be used by enumerators to collect contact information and to determine the type of GQ.

SC-920, Address Listing Page- This page will include existing addresses from the MAF. Special Census enumerators will update these addresses, if needed, at the time of enumeration.

SC-921(HU), Housing Unit Add Page—This page will be used by enumerators to add HUs that are observed to exist on the ground, that are not contained on the address listing page.

SC-921(GQ), Group Quarter Add Page—This page will be used by enumerators to add GQs that are observed to exist on the ground, that are not contained on the address listing page.

SC-1(F), Information Sheet, and the Confidentiality Notice—This notice is required by the Privacy Act of 1974. Special Census field staff are required by law to give an Information Sheet to each person from whom they request census-related information.

The Special Census Program will include a library of forms and the operational procedures used for the many Special Censuses we anticipate conducting this decade. The Census Bureau will establish a reimbursable agreement with a variety of potential special census customers that are unknown at this time. No additional documentation will be provided to OMB in advance of conducting any Special Census utilizing the library of standard forms and procedures. However, any deviation from the standard forms or procedures, such as asking additional questions, will be submitted to OMB for approval. The Special Census program will provide OMB an annual report summarizing the activity under the clearance for the year.

II. Method of Collection

The Special Census Program will use the Census 2010 Update/Enumerate (U/E) methodology. Enumerators will canvass their assigned areas, with an address register that contains addresses obtained from the MAF. Special Census enumerators will update the address information as needed, based on their observation of HUs, TLs or GQs that exist on the ground. Additionally, enumerators will interview households at regular HUs, eligible units at TLs, and residents at GQs using the appropriate Special Census forms.

III. Data

OMB Control Number: 0607-0368.

Form Number: SC-1, SC-1(SUPP), SC-1(Phone/WYC), SC-2, SC-3(RI), SC-116, SC-117, SC-351, SC-920, SC-921(HU), SC-921(GQ), SC-1(F).

Type of Review: Regular submission.

Affected Public: Individual households, businesses, and for profit and not-for-profit institutions.

Estimated Number of Respondents: 248,430.

Estimated Time per Response: approximately 13 minutes.

Estimated Total Annual Burden Hours: 53,527.

Estimated Total Cost: There is no cost to respondents other than their time.

Respondents Obligation: Voluntary.

Legal Authority: Title 13 U.S.C. Section 196.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 27, 2015.
Glenna Mickelson,
Management Analyst, Office of the Chief Information Officer.

[FR Doc. 2015-21663 Filed 9-1-15; 8:45 am]

BILLING CODE 3510-07-P